DEPARTMENT OF HOMELAND SECURITY

Coast Guard

33 CFR Part 110

[Docket Number USCG-2019-0822]

Anchorage Grounds; Delaware Bay and Atlantic Ocean, Delaware

AGENCY: Coast Guard, DHS.

ACTION: Notice of inquiry; request for comments.

SUMMARY: The Coast Guard is considering amending its regulations to establish new anchorage grounds in the Delaware Bay and Atlantic Ocean. We are considering this action after receiving requests suggesting additional anchorage grounds are necessary to accommodate current and future vessel traffic, improve navigation safety, and because traditional anchorage areas may not be available due to planned or potential offshore wind energy development. We invite your comments on whether we should initiate a rulemaking to amend our existing anchorage regulations based on this, or if the status quo should be maintained or other actions considered.

DATES: Your comments and related material must reach the Coast Guard on or before January 28, 2020.

ADDRESSES: You may submit comments identified by docket number USCG-2019-0822 using the Federal portal at https://www.regulations.gov. See the “Public Participation and Request for Comments” portion of the SUPPLEMENTARY INFORMATION section for further instructions on submitting comments.

FOR FURTHER INFORMATION CONTACT: If you have questions about this notice of inquiry, call or email Marine Science Technician Second Class (MST2) Thomas Welker, Sector Delaware Bay, U.S. Coast Guard; telephone (215) 271-4814, email Thomas.J.Welker@uscg.mil; or Mr. Jerry Barnes, Fifth Coast Guard District (dpw), U.S. Coast Guard; telephone (757) 398-6230, email Jerry.R.Barnes@uscg.mil.

SUPPLEMENTARY INFORMATION:

I. Table of Abbreviations

ACPARS Atlantic Coast Port Access Study

BOEM Bureau of Ocean Energy Management

CFR Code of Federal Regulations

FR Federal Register

OCS Outer Continental Shelf

WGS84 World Geodetic System 1984

II. Background and Purpose

The Coast Guard is considering amending its regulations to establish new anchorage grounds in the Delaware Bay and Atlantic Ocean. Our authority to establish anchorage grounds comes from 33 U.S.C. 471.

The Delaware Bay and River supports a diverse marine transportation system which includes the ports of Wilmington, DE; New Castle, DE; Philadelphia, PA; Camden-Gloucester City, NJ; and serves as an entry point for vessels bound for the port of Baltimore, MD, through the Chesapeake and Delaware Canal. Global trends in shipping indicate carriers continue to invest in larger vessels and these vessels are arriving at Delaware River ports. A river deepening project is nearing completion that will increase the Federal project depth from 40 to 45 feet from Philadelphia, PA, and Camden, NJ, to the mouth of the Delaware Bay. Large vessels bound for Delaware River ports often wait offshore at anchor in unregulated areas between the Eastern Directed Traffic area and Southeastern Directed Traffic Area, or in various places along the dredged channel through the lower bay. Vessels anchor for a broad range of purposes including taking on stores, transferring of personnel, engaging in bunkering operations, or lightering. Designated anchorage grounds are available and regulations covering the use of these anchorages are set out in 33 CFR 110.157. These anchorage regulations were last revised in November 2016 to eliminate unusable anchorage grounds and provide additional usable grounds to support port demands and enhance navigation safety. See Final Rule published in the Federal Register on November 25, 2016 (81 FR 85157).

In 2016, the Coast Guard published a notice of its Atlantic Coast Port Access Route Study (ACPARS) (81 FR 13307, March 14, 2016) that analyzed the Atlantic Coast waters seaward of existing port approaches within the U.S. Exclusive Economic Zone and announced the report as final in 2017 (82 FR 16510, April 5, 2017). This multiyear study began in 2011, included public participation, and identified the navigation routes customarily followed by ships engaged in commerce between international and domestic U.S. ports. See https://navcen.uscg.gov/?pageName=PARSReports. During the study, the Coast Guard received comments from interested stakeholders addressing cumulative impacts of wind energy areas and potential conflicts with traditional navigation routes and uses of the waters. As wind energy areas are developed and distribution cables installed, vessel traffic may be displaced or funneled into smaller areas, and available anchorage areas may be decreased. This increased vessel density may cause the mixing of vessel types and speeds while also changing the geometry of interactions as vessels come within close range of each other. These changes may increase the risk of collision, loss of property, loss of life, and environmental damage. In the vicinity of the entrance to the Delaware Bay and River, the Coast Guard received requests from a Federal pilot and the Mariners' Advisory Committee for the Delaware Bay and River to establish two new regulated anchorages in the Atlantic Ocean as potential wind energy leases would remove traditional unregulated anchorage areas from use.

In 2018, the Coast Guard held meetings with maritime stakeholders to discuss global shipping trends, wind energy areas and potential conflicts with traditional uses of the waters in the vicinity of the entrance to the Delaware Bay and River. Attendance included the Pilots' Association for the Bay and River Delaware, the Mariners' Advisory Committee for the Bay and River Delaware, Interport Pilots Association, and port and terminal representatives. These meetings provided valued insight toward the need for additional anchorage grounds to accommodate current and future vessel traffic, improve navigation safety, and facilitate continued growth of Delaware River ports and associated economic activity.

Potential anchorage grounds discussed included the two anchorage areas requested during the ACPARS study as well as a third in the lower bay. Following the naming convention in 33 CFR 110.157, these anchorages were notionally referred to as Anchorage B—Breakwater, Anchorage C—Cape Henlopen, and Anchorage D—Indian River.

Anchorage B—Breakwater is notionally located in the Delaware Bay beginning approximately 2.5 miles north of Cape Henlopen, DE, includes areas traditionally used by vessels for anchoring, and is in naturally deep water with charted depths between 50 and 77 feet. The anchorage grounds as contemplated include the waters bounded by a line connecting the following points:

Latitude | Longitude
38°52′44.43″ N | 75°06′43.93″ W
38°52′06.27″ N | 75°05′46.69″ W
38°51′19.83″ N | 75°5′42.73″ W
38°50′45.99″ N | 75°06′15.49″ W
38°52′44.43″ N | 75°08′40.57″ W
(DATUM: WGS84)

Anchorage C—Cape Henlopen is notionally located in the Atlantic Ocean approximately 9.4 miles east of the Delaware coast and is in naturally deep water with charted depths between 41 and 85 feet. The anchorage ground includes areas anticipated to be used by vessels for anchoring once offshore wind energy areas are developed. The anchorage grounds as contemplated include the waters bounded by a line connecting the following points:

Latitude | Longitude
38°40′54.03″ N | 74°52′00.01″ W
38°40′56.11″ N | 74°48′51.35″ W
38°37′36.03″ N | 74°48′30.01″ W
(DATUM: WGS84)

Anchorage D—Indian River is notionally located in the Atlantic Ocean beginning approximately 6 miles east of the Delaware coast, includes areas traditionally used by vessels for anchoring, and is in naturally deep water with charted depths between 40 and 85 feet. The frequency of vessels using the anchorage grounds is anticipated to increase once offshore wind energy areas are developed. These anchorage grounds as contemplated include the waters bounded by a line connecting the following points:

Latitude | Longitude
38°34′56.28″ N | 74°52′19.13″ W
38°33′40.94″ N | 74°54′41.51″ W
38°31′31.11″ N | 74°55′27.97″ W
38°29′07.38″ N | 74°53′29.26″ W
38°28′56.90″ N | 74°50′28.70″ W
38°30′07.40″ N | 74°48′08.39″ W
(DATUM: WGS84)

We are considering amending our regulations to establish these three notional anchorages. You may find illustrations of these notional anchorages in the docket where indicated under ADDRESSES. Additionally, the notional anchorages are available for viewing on the Mid-Atlantic Ocean Data Portal at http://portal.midatlanticocean.org/visualize/. See the “Maritime” portion of the Data Layers section.

III. Information Requested

We seek your comments on whether we should consider a proposed rulemaking to establish additional regulated anchorage grounds in the Delaware Bay and Atlantic Ocean. In particular, the Coast Guard requests your input to determine to what extent the notional anchorages, Anchorage B—Breakwater, Anchorage C—Cape Henlopen, and Anchorage D—Indian River would accommodate current and future vessel traffic, improve navigation safety, and facilitate continued growth of Delaware River ports, offshore renewable energy and associated economic activity; or if the status quo should be maintained, or other actions should be considered.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and submissions in response to this document, see DHS's Correspondence System of Records notice (84 FR 48645, September 26, 2018).

Documents mentioned in this notice of inquiry as being available in the docket, and all public comments, will be in our online docket at https://www.regulations.gov and can be viewed by following that website's instructions.

Dated: November 22, 2019.
Keith M. Smith,
Rear Admiral, U.S. Coast Guard, Commander, Fifth Coast Guard District.

[FR Doc. 2019-25854 Filed 11-27-19; 8:45 am]

BILLING CODE 9110-04-P